DEPARTMENT OF DEFENSE

Office of the Secretary

[Docket ID DOD-2008-OS-0156]

Privacy Act of 1974; Systems of Records

AGENCY: Defense Threat Reduction Agency, DoD.

ACTION: Notice to add a system of records.

SUMMARY: The Defense Threat Reduction Agency is proposing to add a system of records to its inventory of record systems subject to the Privacy Act of 1974 (5 U.S.C. 552a), as amended.

DATES: This action will be effective without further notice on January 14, 2009 unless comments are received that would result in a contrary determination.

ADDRESSES: Send comments to the Freedom of Information and Privacy Office, Defense Threat Reduction Agency, 8725 John J. Kingman Road, Fort Belvoir, VA 22060-6201

FOR FURTHER INFORMATION CONTACT: Ms. Brenda Carter at (703) 767-1771.

SUPPLEMENTARY INFORMATION: The Defense Threat Reduction Agency notices for systems of records subject to the Privacy Act of 1974 (5 U.S.C. 552a), as amended, have been published in the Federal Register and are available from the address above.

The proposed system report, as required by 5 U.S.C. 552a(r) of the Privacy Act of 1974, as amended, was submitted on November 7, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: December 9, 2008.
Morgan E. Frazier,
Alternate OSD Federal Register Liaison Officer, Department of Defense.

HDTRA 013

System name:

Assignment and Correspondence Tracking System.

System location:

Headquarters, Defense Threat Reduction Agency (DTRA), Office of the Chief of Staff, Attn: Deputy Chief of Staff/Administration, 8725 John J. Kingman Road, Stop 6201, Fort Belvoir, VA 22060-6201.

Categories of individuals covered by the system:

Individuals assigning, responding to, or subjects of, correspondence and assignments.

Categories of records in the system:

Records may contain an individual's name, Social Security Number (SSN) within supporting documents, physical and electronic, home and duty addresses, and phone numbers, security clearance data, military or civilian rank/grade, and correspondence or supporting documents.

Authority for maintenance of the system:

5 U.S.C. 301, Departmental Regulations; 10 U.S.C. 136, Under Secretary of Defense for Personnel and Readiness; and E.O. 9397 (SSN).

Purpose(s):

Establish an electronic system to improve the ability of DTRA to control assignments, correspondence, document actions taken, and locate records for reference purposes. The system is used to initiate, manage, and track assignments coming from outside DTRA as well as those generated within DTRA at the Director, Deputy Director, Chief of Staff, or Enterprise to Enterprise level.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To officials and employees of the U.S. Government, contractors, other Government agencies, and private sector entities in the performance of their official duties as they relate to clarifying issues arising from assignments and correspondence under the Assignment and Correspondence Tracking System.

The DoD “Blanket Routine Uses” set forth at the beginning of the Office of the Secretary of Defense's compilation of system of records notices apply to this system of records.

Policies and practices for storing, retrieving, accessing, retaining, and disposing of records in the system:

Storage:

Paper records and electronic storage media.

Retrievability:

Name and/or Social Security Number (SSN).

Safeguards:

Paper files are maintained in secure, limited access, or monitored work areas accessible only to authorized personnel. Electronic media are maintained via an internal Local Area Network (LAN) with workstations and laptops of authorized personnel protected with passwords.

Retention and disposal:

Paper files are maintained for 2 years. Electronic media remain in the Assignment and Correspondence Tracking System active assignment file for 90 days, then automatically transferred to an accessible archive file for 2 years, then removed from the system.

System manager(s) and address:

Office of the Chief of Staff/DCOS/A, Defense Threat Reduction Agency, 8725 John J. Kingman Road, Stop 6201, Fort Belvoir, VA 22060-6201.

Notification procedure:

Individuals seeking to determine whether this system of records contains information about themselves should address written inquiries to the Defense Threat Reduction Agency, Office of the Chief of Staff, Attn: Deputy Chief of Staff/Administration, 8725 John J. Kingman Road, Stop 6201, Fort Belvoir, VA 22060-6201.

Individuals should furnish their full name, current address, and telephone number.

Record access procedures:

Individuals seeking to access records about themselves contained in this system of records should address written inquiries to the Defense Threat Reduction Agency, Office of the Chief of Staff, Attn: Deputy Chief of Staff/Administration, 8725 John J. Kingman Road, Stop 6201, Fort Belvoir, VA 22060-6201.

Individuals should furnish their full name, current address, and telephone number.

Contesting record procedures:

The DTRA rules for contesting record content are published in 32 CFR part 318, or may be obtained from the System Manager.

Record source categories:

Individual records subjects, DoD databases, correspondence emanating from external sources, and internal DTRA actions.

Exemptions claimed for the system:

None.

[FR Doc. E8-29524 Filed 12-12-08; 8:45 am]

BILLING CODE 5001-06-P